Proclamation 9553 of December 9, 2016

Human Rights Day and Human Rights Week, 2016

By the President of the United States of America

A Proclamation

When the Universal Declaration of Human Rights was adopted on December 10, 1948, it set in motion a movement to secure liberty and justice for all people. Out of the ashes of the Second World War, the United Nations General Assembly proclaimed that “All human beings are born free and equal in dignity and rights.” On Human Rights Day and during Human Rights Week, we reflect on how far we have come in upholding these universal rights and resolve to continue fighting to safeguard them wherever they are threatened.

In the last few decades, our world has made great strides in advancing human rights and the institutions that protect them. More countries have pursued self-government and democracy—and more people are electing their leaders freely and fairly and holding their governments accountable through calls for increased transparency. Around the world, the United States has promoted freedom: We have worked to expand the protection of human rights, end gender-based violence, and defend the freedoms of expression, peaceful assembly, and the press. In promoting these liberties and pushing back against tyranny, corruption, and oppression, we have recognized that universal human rights and fundamental freedoms do not stop at our borders. They are the birthright of people everywhere.

History ultimately moves in the direction of justice and inclusion, but despite the great progress we have made, unprecedented and rapid change has posed great challenges. It is our collective duty to continue striving for a world where nobody is left behind, forgotten, or mistreated, and where all nations recognize that societies that draw on the contributions of every citizen are stronger. Far too many people around the world are still denied their human rights and fundamental freedoms, and we must work to end the discrimination that is too often felt by LGBT individuals, people with disabilities, immigrants, women and girls of all ages, and members of religious, ethnic, and other minorities. And we must strengthen our ongoing efforts to rid the world of violence, oppression, and hatred.

Our relationships to one another—person to person, nation to nation—are defined not by our differences, but by our shared belief in the ideals enshrined in the Universal Declaration of Human Rights. As we observe the anniversary of the affirmation that inalienable rights exist for every individual, we vow to ensure these rights are afforded to every person. Together, let us continue striving to stamp out all forms of injustice and promote dignity, humanity, and respect around the world.

NOW, THEREFORE, I, BARACK OBAMA, President of the United States of America, by virtue of the authority vested in me by the Constitution and the laws of the United States, do hereby proclaim December 10, 2016, as Human Rights Day and the week beginning December 10, 2016, as Human Rights Week. I call upon the people of the United States to mark these observances with appropriate ceremonies and activities.

IN WITNESS WHEREOF, I have hereunto set my hand this ninth day of December, in the year of our Lord two thousand sixteen, and of the Independence of the United States of America the two hundred and forty-first.

[FR Doc. 2016-30265

Filed 12-13-16; 11:15 am]

Billing code 3295-F7-P